DEPARTMENT OF DEFENSE

Defense Logistics Agency

Privacy Act of 1974; Systems of Records

AGENCY: Defense Logistics Agency.

ACTION: Notice to add a system of records.

SUMMARY: The Defense Logistics Agency proposes to add a system of records notice to its inventory of record systems subject to the Privacy Act of 1974 (5 U.S.C. 552a), as amended.

DATES: This action will be effective without further notice on December 20, 2004, unless comments are received that would result in a contrary determination.

ADDRESSES: Send comments to the Privacy Act Officer, Headquarters, Defense Logistics Agency, ATTN: DES-B, 8725 John J. Kingman Road, Stop 6220, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on October 21, 2004, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: November 12, 2004.
Jeannette Owings-Ballard,
OSD Federal Register Liaison Officer, Department of Defense.

S322.70 DMDC

System name:

Defense Biometric Identification Data System (DBIDS).

System location:

Defense Manpower Data Center, 400 Gigling Road, Seaside, CA 93955-6771. For a list of backup locations, contact the system manager.

Categories of individuals covered by the system:

Active duty, Reserve, and Guard personnel from the Armed Forces and their family members; retired Armed Forces personnel and their families; DoD and non-DoD employees and dependents, U.S. residents abroad, foreign nationals and corporate employees and dependents who have access to U.S. installations in the continental U.S. and overseas.

Categories of records in the system:

The system includes personal data to include name, grade, Social Security Number, status, date and place of birth, weight, height, eye color, hair color, gender, passport number, country of citizenship, geographic and electronic home and work addresses and telephone numbers, marital status, index fingerprints and photographs, and identification card issue and expiration dates. The system also includes vehicle information such as manufacturer, model year, color and vehicle type, license plate type and number, decal number, current registration, automobile insurance data, and driver's license data. The system also contains data on government-issued and personal weapons such as type; serial number; manufacturer; caliber; firearm registration date; and storage location data to include unit, room, building, and phone number.

Authority for maintenance of the system:

5 U.S.C. 301 Departmental regulations; 10 U.S.C. 113, Secretary of Defense, Note at Pub. L. 106-65; 10 U.S.C. 136, Under Secretary of Defense for Personnel and Readiness; 18 U.S.C. 1029, Access device fraud; 18 U.S.C. 1030, Computer fraud; 23 U.S.C. 401 et seq. National Highway Safety Act of 1966; 40 U.S.C. Chapter 25, Information technology management; 50 U.S.C. Chapter 23, Internal Security; Pub. L. 106-398, Government Information Security Act; Pub. L. 100-235, Computer Security Act of 1987; Pub. L. 99-474, Computer Fraud and Abuse Act; E.O. 9397 (SSN); E.O. 12958, Classified National Security Information as amended by E.O., 13142 and 13292; and E.O. 10450, Security Requirements for Government Employees.

Purpose(s):

The records are maintained to support DoD physical security and information assurance programs and are used for identity verification purposes, to record personal property registered with the Department, and for producing facility management reports.

Routine uses of records maintained in the system, including categories of users and the purpose of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of DLA's compilations of systems of records notices apply to this system.

Policies and practices for storing, retrieving, accessing and disposing of records in the system:

Storage:

Electronic and paper copy storage.

Retrievability:

Retrieved primarily by name, Social Security Number, vehicle identifiers, or weapon identification data. However, data may also be retrieved by other data elements such as passport number, photograph, fingerprint data, and similar elements in the database.

Safeguards:

Computerized records are maintained in a controlled area accessible only to authorized personnel. Entry is restricted by the use of locks, guards, and administrative procedures. Access to personal information is limited to those who require the records in the performance of their official duties, and to the individuals who are the subjects of the record or their authorized representatives. Access to personal information is further restricted by the use of unique logon and passwords, which are changed periodically.

Retention and disposal:

Disposition pending.

System manager(s) and address:

Director, Defense Manpower Data Center, 1600 Wilson Boulevard, Suite 400, Arlington VA 22209-2593, or Deputy Director, Defense Manpower Data Center, DoD Center Monterey Bay, 400 Gigling Road, Seaside, CA 93955-6771.

Notification procedure:

Individuals seeking to determine whether information about themselves is contained in this system should address written inquiries to the Privacy Act Officer, Defense Logistics Agency, DES-B, 8725 John J. Kingman Road, Stop 6220, Fort Belvoir, VA 22060-6221.

Record access procedures:

Individuals seeking access to information about themselves contained in this system should address written inquiries to the Privacy Act Officer, Defense Logistics Agency, ATTN: DES-B, 8725 John J. Kingman Road, Stop 6220, Fort Belvoir, VA 22060-6221.

Contesting records procedures:

The DLA rules for accessing records, for contesting contents, and appealing initial agency determinations are contained in 32 CFR part 323, or may be obtained from the Privacy Act Officer, Headquarters, Defense Logistics Agency, ATTN: DES-B, 8725 John J. Kingman Road, Stop 6220, Fort Belvoir, VA 22060-6221.

Record source categories:

Data is collected from existing DoD databases, the Military Services, DoD Components, and from the individual.

Exemptions claimed for the system:

None.

[FR Doc. 04-25550 Filed 11-17-04; 8:45 am]

BILLING CODE 5001-06-P